ELECTION ASSISTANCE COMMISSION

Sunshine Act; Notice of Public Meeting Accessibility Roundtable Discussion

DATE and TIME: Thursday, August 5, 2010; 9 a.m.-12 p.m. EDT (morning session); 1-4 p.m. EDT (afternoon session).

PLACE: U.S. Access Board, 1331 F Street, NW., Suite 1000, Washington, DC 20004, (202) 272-0080 (Metro Stop: Metro Center).

AGENDA: The Commission will host a roundtable discussion regarding the various accessibility issues the EAC is exploring with its work with the revision to the 2005 Voluntary Voting System Guidelines (VVSG). The goal of the roundtable is to provide the EAC with relevant information and implementable suggestions that the Commission can use as it attempts to make these policy decisions.

The discussion will be focused upon the following topics: (1) New issues that were not addressed or anticipated by the 2005 VVSG; (2) Use of transferrable technologies and use of adaptive devices; (3) Issues with verification of vote and/or paper ballot by disabled voters; (4) Improvements to conformance and summative testing to accessible requirements by the EAC and manufacturer(s); (5) The possible benefits and drawbacks of component testing and certification; (6) Telephone voting systems and accessibility requirements; (7) The strengths and weaknesses of allowing submission for certification of systems in two categories, systems without accessibility components and accessible voting systems.

Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting and hearing will be open to the public.

PERSON TO CONTACT FOR INFORMATION: Matthew Masterson, Telephone: (202) 566-3100.

Alice Miller,
Chief Operating Officer, U.S. Election Assistance Commission.

[FR Doc. 2010-18934 Filed 7-28-10; 4:15 pm]

BILLING CODE 6820-KF-P